DEPARTMENT OF THE INTERIOR

National Park Service

[NPS-WASO-NRNHL-0112-9197-2200-3200-665]

National Register of Historic Places; Notification of Pending Nominations and Related Actions

Nominations for the following properties being considered for listing or related actions in the National Register were received by the National Park Service before December 23, 2011. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, (202) 371-6447. Written or faxed comments should be submitted by February 3, 2012. Before including your address, phone number, email address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

ARIZONA

Maricopa County

Borden Homes Historic District, 1000-1100 blks. S. Una & S. Butte Aves., & 1600-1700 blks. E. 12th St., Tempe, 11001072.

Glendale Gardens Historic District, 5002-5038 W. Gardenia Ave., 5007-5038 W. State Ave., & 7251-7321 N. 50th Dr., Glendale, 11001073.

Sage Acres Historic District, 6021-62-51 N. 48th Ave. & 4736 W. Bethany Home Rd., Glendale, 11001074.

Pima County

Rillito Race Track Historic District, 4502 N. 1st Ave., Tucson, 11001075.

DISTRICT OF COLUMBIA

District of Columbia

Dorsch's White Cross Bakery, 641 S St. NW., Washington, 11001076.

FLORIDA

Sarasota County

Burrows, Waters and Elsa, Historic District, 400 Palmetto Ave., Osprey, 11001077.

KANSAS

Butler County

Beaumont Hotel, 11651 SE. Main St., Beaumont, 11001078.

Harvey County

Sedgwick Downtown Historic District, W. side of 500 blk. N. Commercial, Sedgwick, 11001079.

Russell County

Russell County Jail and Sheriff's Residence, 331 N. Kansas St., Russell, 11001080.

Sedgwick County

Luling's City Laundry, 1730-1746 E. Douglas, Wichita, 11001081.

Union National Bank Building, (African American Resources in Wichita, Kansas MPS), 104 S. Broadway, Wichita, 11001082.

MINNESOTA

Brown County

Berg's, C., Hotel, 145 W. Main St., Sleepy Eye, 11001084.

Sibley County

Gaylord City Park, Veterans Dr. & Park St., Gaylord, 11001085.

MISSOURI

Jackson County

Morningside Acres Historic Ranch House District, (Lee's Summit, Missouri MPS), Roughly 600 blk. E. of Independence Ave. between SE 3rd Ter. & SE. 5th St., Lee's Summit, 11001083.

NEVADA

Clark County

Morelli House, 861 E. Bridger Ave., Las Vegas, 11001086.

NEW YORK

Albany County

House at 698 Kenwood Avenue, 698 Kenwood Ave., Slingerlands, 11001087.

Rowe Farm, 281 Bridge St., South Bethlehem, 11001088.

Columbia County

Copake Memorial Clock, Main St., Copake, 11001089.

Dutchess County

Smithfield Presbyterian Church, 656 Smithfield Valley Rd., Amenia, 11001090.

Jefferson County

Storrs' Harbor Naval Shipyard Site, Address Restricted, Hounsfield, 11001091.

OHIO

Knox County

Downtown Mount Vernon Historic District, S. Main, S. Mulberry, S. Gay, High, Vine, Gambier & Howard Sts., Ohio Ave, & Phillips Dr., Mount Vernon, 11001092.

Mahoning County

St. John's Episcopal Church, 323 Wick Ave., Youngstown, 11001093.

TEXAS

McLennan County

Waco Downtown Historic District, Roughly bounded by Mary Ave., S. 14th St., Columbus Ave., & S. University Park Dr., Waco, 11001094.

[FR Doc. 2012-899 Filed 1-18-12; 8:45 am]

BILLING CODE 4312-51-P